DEPARTMENT OF COMMERCE

International Trade Administration

[A-423-812]

Certain Carbon and Alloy Steel Cut-To-Length Plate From Belgium: Preliminary Results and Partial Rescission of Antidumping Duty Administrative Review; 2020-2021

AGENCY: Enforcement and Compliance, International Trade Administration, Department of Commerce.

SUMMARY: The Department of Commerce (Commerce) preliminarily determines that Industeel Belgium S.A. (Industeel), a producer and exporter subject to this administrative review, made sales of subject merchandise at less than normal value (NV) during the period of review (POR) May 1, 2020, through April 30, 2021. Additionally, based on timely withdrawal of requests for review, we are rescinding this administrative review with respect to all other companies for which we initiatated an administrative review. Interested parties are invited to comment on these preliminary results.

DATES: Applicable June 6, 2022.

FOR FURTHER INFORMATION CONTACT: Alex Wood, AD/CVD Operations, Office II, Enforcement and Compliance, International Trade Administration, U.S. Department of Commerce, 1401 Constitution Avenue NW, Washington, DC 20230; telephone: (202) 482-1959.

SUPPLEMENTARY INFORMATION:

Background

On July 6, 2021, based on timely requests for review in accordance with 19 CFR 351.221(c)(1)(i), we published a notice of initiation of an administrative review of the antidumping duty order on certain carbon and alloy steel cut-to-length plate from Belgium.¹ This review covers 31 producers and/or exporters of the subject merchandise. Commerce selected one company, Industeel, for individual examination. On October 4, 2021, Cleveland-Cliffs Steel LLC, Nucor Corporation, and SSAB Enterprises, LLC (collectively, the petitioners) withdrew their requests for an administrative review with respect to every company except Industeel.

¹ See Initiation of Antidumping and Countervailing Duty Administrative Reviews, 86 FR 38481 (July 6, 2021).

On January 5, 2022, Commerce extended the preliminary results of this review by 120 days, until May 31, 2022.² For a complete description of the events that followed the initiation of this review, see the Preliminary Decision Memorandum.³ A list of topics discussed in the Preliminary Decision Memorandum is included at Appendix I to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx.

² See Memorandum, “Extension of Deadline for Preliminary Results of 2020-2021 Antidumping Duty Administrative Review,” dated January 5, 2022.

³ See Memorandum, “Decision Memorandum for the Preliminary Results of the 2020-2021 Administrative Review of the Antidumping Duty Order on Certain Carbon and Alloy Steel Cut-To-Length Plate from Belgium,” dated concurrently with, and hereby adopted by, this notice (Preliminary Decision Memorandum).

Partial Rescission

Pursuant to 19 CFR 351.213(d)(1), Commerce will rescind an administrative review, in whole or in part, if a party who requested the review withdraws the request within 90 days of the date of publication of notice of initiation of the requested review. The petitioners timely withdrew their request for an administrative review with respect to each company listed in the Initiation Notice other than Industeel. No other party requested a review of these companies. Accordingly, we are rescinding this review, in part, with respect to these companies, pursuant to 19 CFR 351.213(d)(1). The producers and/or exporters for which we are rescinding the administrative review are listed at Appendix II of this notice.

Scope of the Order

The products covered by the order are certain carbon and alloy steel cut-to-length plate from Belgium. For a full description of the scope of the order, see Preliminary Decision Memorandum.

Methodology

Commerce is conducting this review in accordance with sections 751(a)(1)(B) and (2) of the Tariff Act of 1930, as amended (the Act). Export price is calculated in accordance with section 772 of the Act. NV is calculated in accordance with section 773 of the Act.

For a full description of the methodology underlying our conclusions, see the Preliminary Decision Memorandum.

Preliminary Results of the Review

We preliminarily determine that the following weighted-average dumping margin exists for the period May 1, 2020, through April 30, 2021:

Producer/exporter | Weighted- average dumping margin (percent)
Industeel Belgium S.A. | 1.15

Verification

On October 14, 2021, the petitioners requested that Commerce conduct verification of Industeel's responses.⁴ Accordingly, as provided in section 782(i)(3) of the Act, we intend to verify information relied upon for the final results of this review.

⁴ See Petitioners' Letter, “Request for Verification,” dated October 14, 2021.

Disclosure and Public Comment

Commerce intends to disclose the calculations performed in connection with these preliminary results to interested parties within five days after the date of publication of this notice.⁵ Case briefs or other written comments may be submitted to Commerce. A timeline for the submission of case briefs and written comments will be provided to interested parties at a later date.⁶ Rebuttal briefs, limited to issues raised in the case briefs, may be filed no later than seven days after the time limit for filing case briefs.⁷ Parties who submit case briefs or rebuttal briefs in this proceeding are encouraged to submit with each argument: (1) a statement of the issue; (2) a brief summary of the argument; and (3) a table of authorities.⁸ Case and rebuttal briefs should be filed using ACCESS and must be served on interested parties.⁹ Note that Commerce has temporarily modified certain of its requirements for serving documents containing business proprietary information, until further notice.¹⁰

⁵ See 19 CFR 351.224(b).

⁶ See 19 CFR 351.309(c)(ii).

⁷ Commerce is exercising its discretion, under 19 CFR 351.309(d)(1), to alter the time limit for filing of rebuttal briefs.

⁸ See 19 CFR 351.309(c)(2) and (d)(2).

⁹ See 19 CFR 351.303.

¹⁰ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, U.S. Department of Commerce, filed electronically via ACCESS within 30 days after the date of publication of this notice.¹¹ Hearing requests should contain: (1) the party's name, address, and telephone number; (2) the number of participants; (3) whether any participant is a foreign national; and (4) a list of issues to be discussed. Issues raised in the hearing will be limited to those raised in the respective case and rebuttal briefs. If a request for a hearing is made, Commerce intends to hold the hearing at a date and time to be determined.¹² Parties should confirm the date, time, and location of the hearing two days before the scheduled date.

¹¹ See 19 CFR 351.310(c).

¹² See 19 CFR 351.310(d).

An electronically-filed document must be received successfully in its entirety by ACCESS by 5:00 p.m. Eastern Time on the established deadline.

Commerce intends to issue the final results of this administrative review, including the results of its analysis of issues raised in any written briefs, not later than 120 days after the date of publication of this notice, unless otherwise extended.¹³

¹³ See section 751(a)(3)(A) of the Act and 19 CFR 351.213(h).

Assessment Rates

Upon completion of the administrative review, Commerce shall determine, and U.S. Customs and Border Protection (CBP) shall assess, antidumping duties on all appropriate entries.¹⁴

¹⁴ See 19 CFR 351.212(b).

Pursuant to 19 CFR 351.212(b)(1), we calculated importer-specific ad valorem duty assessment rates based on the ratio of the total amount of dumping calculated for the examined sales to the total entered value of the sales. Where either the respondent's weighted-average dumping margin is zero or de minimis, within the meaning of 19 CFR 351.106(c)(1), or an importer-specific rate is zero or de minimis, we will instruct CBP to liquidate the appropriate entries without regard to antidumping duties.¹⁵

¹⁵ See 19 CFR 351.106(c)(2).

The final results of this review shall be the basis for the assessment of antidumping duties on entries of merchandise covered by the final results of this review and for future deposits of estimated duties, where applicable.

Commerce's “automatic assessment” practice will apply to entries of subject merchandise during the POR produced by Industeel for which it did not know that the merchandise it sold to the intermediary (e.g., a reseller, trading company, or exporter) was destined for the United States. In such instances, we will instruct CBP to liquidate unreviewed entries at the all-others rate ¹⁶ if there is no rate for the intermediate company(ies) involved in the transaction.¹⁷

¹⁶ See Certain Carbon and Alloy Steel Cut-To-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096, 24098 (May 25, 2017) (CTL Plate Order).

¹⁷ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which the administrative review is rescinded, we will instruct CBP to assess antidumping duties on all appropriate entries at a rate equal to the cash deposit of estimated antidumping duties required at the time of entry, or withdrawal from warehouse, for consumption, in accordance with 19 CFR 351.212(c)(1)(i).

Cash Deposit Requirements

The following deposit requirements will be effective for all shipments of the subject merchandise entered, or withdrawn from warehouse, for consumption on or after the publication date of the final results of this administrative review, as provided by section 751(a)(2)(C) of the Act: (1) the cash deposit rate for Industeel will be equal to the weighted-average dumping margin established in the final results of this review, except if the rate is less than 0.50 percent and, therefore, de minimis within the meaning of 19 CFR 351.106(c)(1), in which case the cash deposit rate will be zero; (2) for previously investigated companies not participating in this review, the cash deposit rate will continue to be the company-specific cash deposit rate published for the most recently completed segment; (3) if the exporter is not a firm covered in this review, a prior review, or the original less-than-fair-value (LTFV) investigation, but the producer is, then the cash deposit rate will be the cash deposit rate established for the most recently completed segment for the producer of the merchandise; and (4) the cash deposit rate for all other producers or exporters will continue to be 5.40 percent, the all-others rate established in the LTFV investigation.¹⁸ These cash deposit requirements, when imposed, shall remain in effect until further notice.

¹⁸ See CTL Plate Order, 82 FR 24098.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i)(1) of the Act, and 19 CFR 351.221(b)(4).

Dated: May 27, 2022.
Lisa W. Wang,
Assistant Secretary for Enforcement and Compliance.

Appendix I

List of Topics Discussed in the Preliminary Decision Memorandum

I. Summary

II. Background

III. Scope of the Order

IV. Partial Rescission of Administrative Review

V. Discussion of the Methodology

VI. Currency Conversion

VII. Recommendation

Appendix II

List of Companies for Which This Review Has Been Rescinded

Producer/exporter
A.G. der Dillinger Hutte.
BBC Chartering Belgium.
C.A. Picard GmbH.
Doerrenberg Edelstahl GmbH.
DMC Nobelclad Europe S.A.
Edgen Murray.
EEW Steel Trading LLC.
Erndtebrucker Eisenwerk GmbH & Co. KG.
Fike Europe B.A.
Industeel France S.A.S.
Logiudice Forni SRL.
Macsteel International.
Nialco S.A.
NLMK Clabecq S.A.
NLMK Dansteel A.S.
NLMK Plate Sales S.A.
NLMK Sales Europe S.A.
NLMK Manage Steel Center S.A.
NLMK La Louviere S.A.
NLMK Verona SpP.
NobelClad Europe GmbH & Co. KG.
RP Technik GmbH Profilsysteme.
Salzgitter Mannesmann International GmbH.
Stahlo Stahl Service GmbH & Co. KG.
Stemcor USA, Inc.
Thyssenkrupp Steel Europe AG.
TWF Treuhandgesellschaft Werbefilm mbH.
Tranter Service Centers.
Valcovny Trub Chomutov A.s.
Voestalpine Grobblech GmbH.

[FR Doc. 2022-12086 Filed 6-3-22; 8:45 am]

BILLING CODE 3510-DS-P